DEPARTMENT OF THE INTERIOR

Wind Cave National Park, Custer County, SD

AGENCY: National Park Service.

ACTION: Notice of Availability for the Record of Decision on the Final Elk Management Plan and Final Environmental Impact Statement, Wind Cave National Park, Custer County, South Dakota.

SUMMARY: Pursuant to Section 102(2)(C) of the National Environmental Policy Act of 1969 (42 U.S.C. 4332(C)), the National Park Service (NPS) announces the availability of the Record of Decision (ROD) for the Final Elk Management Plan and Final Environmental Impact Statement (Plan), Wind Cave National Park, Custer County, South Dakota. On December 3, the Midwest Regional Director approved the ROD for the project. As soon as practicable, the NPS will begin to implement the Preferred Alternative contained in the final EIS.

The NPS will implement the preferred alternative, Alternative B, as described in the final Plan issued on October 30, 2009. The emphasis of this alternative is to make maximum use of hunting on public and private lands outside the park to reduce and maintain the population of elk utilizing the park. This will be accomplished cooperatively with the South Dakota Department of Game Fish and Parks through managed annual public hunting on lands surrounding Wind Cave National Park. Initial reduction activities are expected to occur over a period of 1 to 5 years, with annual maintenance activities conducted thereafter. Because this may not be sufficient to reduce the elk population park-wide alone, a monitoring and adaptive management approach is inherent in the alternative. If hunting outside the park does not fully accomplish initial reduction goals within a prescribed timeframe, reduction methods described in other alternatives such as roundup and live shipping to a slaughterhouse or sharpshooting may be used to reach the target population range. The same would be true for maintenance.

The ROD includes a statement of the decision made, synopses of other alternatives considered, the basis for the decision, a description of the environmentally preferable alternative, a finding on impairment of park resources and values, a listing of measures to minimize environmental harm, and an overview of public involvement in the decisionmaking process.

FOR FURTHER INFORMATION CONTACT: Superintendent Vidal Davila, Wind Cave National Park, 26611 U.S. Highway 385, Hot Springs, SD 57747-9430. You may also view the document via the Internet through the NPS Planning, Environment, and Public Comment Web site (http://parkplanning.nps.gov); simply click on the link to Wind Cave National Park.

Dated: December 3, 2009.
Ernest Quintana,
Regional Director, Midwest Region.

[FR Doc. 2010-1567 Filed 1-26-10; 8:45 am]

BILLING CODE P